DEPARTMENT OF EDUCATION

Applications for New Awards; Native Hawaiian Career and Technical Education Program (NHCTEP); Correction

Catalog of Federal Domestic Assistance (CFDA), Number: 84.259A.

AGENCY: Office of Vocational and Adult Education, Department of Education.

ACTION: Notice; correction.

SUMMARY: On June 14, 2013, the Office of Vocational and Adult Education in the U.S. Department of Education published in the Federal Register (78 FR 35877) a notice inviting applications for new awards for fiscal year (FY) 2013 for NHCTEP. This notice corrects the “Applications Available” date and the “Deadline for Transmittal of Applications” date.

The correct date for when applications are available is June 26, 2013.

The correct deadline for transmittal of applications is July 26, 2013.

DATES: Effective June 26, 2013.

SUPPLEMENTARY INFORMATION:

Corrections

In the Federal Register of June 14, 2013 (78 FR 35877), on page 35877, in the second column, under the DATES heading, we correct the “Applications Available” caption to read:

Applications Available: June 26, 2013.

Also, on page 35877, in the third column, under the DATES heading, we correct the “Deadline for Transmittal of Applications” caption to read:

Deadline for Transmittal of Applications: July 26, 2013.

On page 35881, in section IV, Submission Dates and Times, in the third column, we correct the “Applications Available” caption to read:

Applications Available: June 26, 2013.

Lastly, on page 35881, in section IV, Submission Dates and Times, in the third column, we correct the “Deadline for Transmittal of Applications” caption to read:

Deadline for Transmittal of Applications: July 26, 2013.

Program Authority: 20 U.S.C. 2326(a)-(h).

FOR FURTHER INFORMATION CONTACT: Linda Mayo, U.S. Department of Education, 400 Maryland Avenue SW., Room 11075, Potomac Center Plaza, Washington, DC 20202-7241. Telephone: (202) 245-7792, or by email: linda.mayo@ed.gov.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) on request to the program contact person listed under For Further Information Contact in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Johan Uvin, Deputy Assistant Secretary for Policy and Strategic Initiatives, to perform the functions and duties of the Assistant Secretary for Vocational and Adult Education.

Dated: June 21, 2013.
Johan Uvin,
Deputy Assistant Secretary for Policy and Strategic Initiatives, Delegated Authority to Perform the Functions and Duties of the Assistant Secretary for Vocational and Adult Education.

[FR Doc. 2013-15260 Filed 6-25-13; 8:45 am]

BILLING CODE 4000-01-P